DEPARTMENT OF COMMERCE

National Institute of Standards and Technology

Industrial Advisory Committee; Meeting

AGENCY: National Institute of Standards and Technology, Department of Commerce.

ACTION: Notice of open meeting.

SUMMARY: The Industrial Advisory Committee (Committee) will hold an open meeting via web conference on Tuesday, February 7, 2023, from 10 a.m. to 3 p.m. Eastern Time. The primary purposes of this meeting are to update the Committee on the progress of the CHIPS R&D Programs, receive updates from the Committee working groups, and allow the Committee to deliberate and discuss the progress that has been made. The final agenda will be posted on the NIST website at https://www.nist.gov/chips/industrial-advisory-committee.

DATES: The Industrial Advisory Committee will meet on Tuesday, February 7, 2023, from 10 a.m. to 3 p.m. Eastern Time. The meeting will be open to the public.

ADDRESSES: The meeting will be held via web conference. For instructions on how to attend and/or participate in the meeting, please see the SUPPLEMENTARY INFORMATION section of this notice.

FOR FURTHER INFORMATION CONTACT: Tamiko Ford at Tamiko.Ford@NIST.gov or (202) 594-6793.

SUPPLEMENTARY INFORMATION: The Committee was established pursuant to 15 U.S.C. 4656(b). The Committee is currently composed of 24 members, appointed by the Secretary of Commerce, to provide advice to the United States Government on matters relating to microelectronics research, development, manufacturing, and policy. Background information on the CHIPS Act and information on the Committee is available at https://www.nist.gov/chips/industrial-advisory-committee.

Pursuant to the Federal Advisory Committee Act, as amended, 5 U.S.C. App., notice is hereby given that the Industrial Advisory Committee will meet on Tuesday, February 7, 2023, from 10 a.m. to 3 p.m. Eastern Time. The meeting will be open to the public and will be held via web conference. Interested members of the public will be able to participate in the meeting from remote locations. The primary purposes of this meeting are to update the Committee on the progress of the CHIPS R&D Programs, receive updates from the Committee working groups, and allow the Committee to deliberate and discuss the progress that has been made. The final agenda will be posted on the NIST website at https://www.nist.gov/chips/industrial-advisory-committee.

Individuals and representatives of organizations who would like to offer comments and suggestions related to items on the Committee's agenda for this meeting are invited to submit comments in advance of the meeting. Written comments may be submitted via the registration link. Approximately ten minutes will be reserved for public comments, which will be read on a first-come, first-served basis. Please note that all submitted comments, including those not read during the meeting, will be treated as public documents and will be made available for public inspection. Comments read during this period will not be considered for response. All comments must be submitted via the registration link https://events.nist.gov/profile/18811 by 5 p.m. Eastern Time, Friday, February 3, 2023.

Anyone wishing to attend must register by 5 p.m. Eastern Time, Friday, February 3, 2023, to attend. Please submit your full name, the organization you represent (if applicable), email address, and phone number via https://events.nist.gov/profile/18811. Non-U.S. citizens must submit additional information; please contact Tamiko Ford at Tamiko.Ford@nist.gov.

Alicia Chambers,
NIST Executive Secretariat.

[FR Doc. 2023-00958 Filed 1-18-23; 8:45 am]

BILLING CODE 3510-13-P